OFFICE OF THE UNITED STATES TRADE REPRESENTATIVE

Reallocation of Unused Fiscal Year 2024 WTO Tariff-Rate Quota Volume for Raw Cane Sugar

AGENCY: Office of the United States Trade Representative.

ACTION: Notice.

SUMMARY: The Office of the United States Trade Representative (USTR) is providing notice of a reallocation of the fiscal year (FY) 2024 in-quota quantity of the World Trade Organization (WTO) tariff-rate quota (TRQ) for imported raw cane sugar.

DATES: This notice is applicable on December 26, 2023.

FOR FURTHER INFORMATION CONTACT: Erin Nicholson, Office of Agricultural Affairs, at 202-395-9419 or erin.h.nicholson@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On July 5, 2023, the U.S. Department of Agriculture established the FY2024 TRQ for imported raw cane sugar at the minimum quantity to which the United States is committed pursuant to the WTO Uruguay Round Agreements (1,117,195 metric tons raw value (MTRV) conversion factor: 1 metric ton = 1.10231125 short tons). On July 19, 2023, USTR provided notice of country-by-country allocations of the FY2024 in-quota quantity of the WTO TRQ for imported raw cane sugar. See 87 FR 43593. On November 30, 2023, based on consultation with quota holders, USTR reallocated 223,740 MTRV of the original TRQ quantity from those countries that had stated they did not plan to fill their FY2024 allocated raw cane sugar quantities. See 88 FR 83596. Due to an inadvertent omission, Fiji was not consulted and therefore was not included as a country receiving a reallocated amount. Based on further consultation with certain quota holders, USTR has determined that an additional 3,217 MTRV is available for reallocation from those countries that have stated they do not plan to fill their FY2024 allocated raw cane sugar quantities. USTR is allocating the 3,217 MTRV to Fiji, which is the amount that Fiji would have received if included in the reallocation of November 30, 2023.

The allocations of the raw cane sugar WTO TRQ to countries that are net importers of sugar are conditioned on receipt of the appropriate verifications of origin. Certificates for quota eligibility must accompany imports from any country for which an allocation has been provided.

Douglas McKalip,
Chief Agricultural Negotiator, Office of the United States Trade Representative.

[FR Doc. 2023-28340 Filed 12-22-23; 8:45 am]

BILLING CODE 3390-F4-P